ENVIRONMENTAL PROTECTION AGENCY

[FRL-7413-4]

Clean Air Act Operating Permit Program; Petition for Objection to State Operating Permit for the ENGAGE Plant Modification, Dow Chemical Company Plaquemine, Iberville Parish, LA

AGENCY: Environmental Protection Agency (EPA).

ACTION: Notice of final order on petition to object to state operating permit.

SUMMARY: This notice announces that the EPA Administrator has denied the petition to object to a state operating permit issued by the Louisiana Department of Environmental Quality (LDEQ) for the ENGAGE plant modification at Dow Chemical Company in Plaquemine, Louisiana. Pursuant to section 505(b)(2) of the Clean Air Act (Act), the petitioner may seek judicial review of this petition response in the United States Court of Appeals for the Fifth Circuit. Any petition must be filed within 60 days of the date this notice appears in the Federal Register, pursuant to section 307(d) of the Act.

ADDRESSES: You may review copies of the final order, the petition, and other supporting information at the Environmental Protection Agency, Region 6, 1445 Ross Avenue, Dallas, Texas 75202-2733. If you wish to examine these documents, you should make an appointment at least 24 hours before visiting day. The final order is also available electronically at the following address: http://www.epa.gov/region07/programs/artd/air/title5/petitiondb/petitiondb2001.htm.

FOR FURTHER INFORMATION CONTACT: Bonnie Braganza, Air Permitting Section, Multimedia Planning and Permitting Division, U.S. Environmental Protection Agency, Region 6, 1445 Ross Avenue, Dallas, Texas 75202-2733, telephone (214) 665-7340, or e-mail at braganza.bonnie@epa.gov.

SUPPLEMENTARY INFORMATION: The Clean Air Act (Act) affords EPA a 45-day period to review, and object to as appropriate, operating permits proposed by state permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

Suzanne Dickey and Eric Rochkind submitted a petition on behalf of the Louisiana Environmental Action Network (LEAN or Petitioner), requesting that the Administrator object to a modified title V operating permit issued by the Louisiana Department of Environmental Quality (LDEQ) to Dow Chemical Company (Dow), for the construction of a new production train—the Engage train—at Dow's existing facilities in Plaquemine, Iberville Parish, Louisiana.

The petition requests that the Administrator object to the Dow permit based on the following grounds: (1) The offset credits required by the Nonattainment New Source Review regulations are invalid because the baseline used to calculate the credits was flawed; (2) The offset credits were not valid because the reductions were not surplus to legally required reductions at the time of proposed use, as required by Section 173(c)(2) of the Act; (3) The offset credits were based on reductions previously used or relied upon by the State of Louisiana to meet the 15% Rate of Progress requirements under Section 182(b)(1) of the Act; (4) The offset credits were not identified with sufficient specificity to inform the public of the basis of the credits; (5) The offset credits are invalid because the Louisiana emission reduction credit bank has not required emissions to be surplus at the time of use and has not maintained an accurate accounting of credit balances; (6) LDEQ should confiscate the Louisiana emission reduction credit bank in implementing approved contingency measures pursuant to Sections 172(c)(9) and 182(c)(8) of the Act; (7) The Dow emission reduction credit application is invalid because it fails to meet the requirements of the Louisiana emission reduction banking rules; (8) A new facility in the Baton Rouge nonattainment area will hinder reasonable further progress toward achieving the ozone standard in violation of Sections 172, 173, and 182 of the Act; and (9) The Dow permit fails to satisfy the alternative sites analysis required by Section 173(a)(5)of the Act and state law.

On October 30, 2002, the Administrator issued an order denying the petition. The order explains the reasons for the Administrator's decision.

Dated: November 13, 2002.
Gregg A. Cooke,
Regional Administrator, Region 6.

[FR Doc. 02-29887 Filed 11-22-02; 8:45 am]

BILLING CODE 6560-50-P